DEPARTMENT OF EDUCATION

Advisory Commission on Accessible Instructional Materials in Postsecondary Education for Students With Disabilities

AGENCY: U. S. Department of Education, Office of Special Education and Rehabilitative Services, Advisory Commission on Accessible Instructional Materials in Postsecondary Education for Students With Disabilities.

ACTION: Notice of an open meeting and public hearing.

SUMMARY: The notice sets forth the schedule and agenda of the meeting of the Advisory Commission on Accessible Instructional Materials in Postsecondary Education for Students with Disabilities. The notice also describes the functions of the Commission. Notice of the meeting is required by section 10 (a) (2) of the Federal Advisory Committee Act and is intended to notify the public of its opportunity to attend.

DATES: Open Meeting: July 11-12, 2011.

Public Hearing: July 12, 2011.

Time: July 11, 2011: The open meeting will occur from 8:30 a.m.-5 p.m.

July 12, 2011: The open meeting will occur from 8:30 a.m.-3:30 p.m.

The public hearing will take place from 4 p.m. to 9 p.m.

ADDRESSES: The Sheraton Seattle, 1400 6th Avenue, Seattle, Washington 98101.

FOR FURTHER INFORMATION CONTACT: Elizabeth Shook, Program Specialist, Office of Special Education and Rehabilitative Services, United States Department of Education, 550 12th Street, SW., Washington, DC 20202; telephone: (202) 245-7642, fax: 202-245-7638.

SUPPLEMENTARY INFORMATION: The Advisory Commission on Accessible Instructional Materials in Postsecondary Education for Students with Disabilities (the Commission) is established under Section 772 of the Higher Education Opportunity Act, Public Law 110-315, dated August 14, 2008. The Commission is established to conduct a comprehensive study, which will—(I) “Assess the barriers and systemic issues that may affect, and technical solutions available that may improve, the timely delivery and quality of accessible instructional materials for postsecondary students with print disabilities, as well as the effective use of such materials by faculty and staff; and (II) make recommendations related to the development of a comprehensive approach to improve the opportunities for postsecondary students with print disabilities to access instructional materials in specialized formats in a time frame comparable to the availability of instructional materials for postsecondary nondisabled students.”

In making recommendations for the study, “the Commission shall consider—(I) How students with print disabilities may obtain instructional materials in accessible formats within a time frame comparable to the availability of instructional materials for nondisabled students; and to the maximum extent practicable, at costs comparable to the costs of such materials for nondisabled students; (II) the feasibility and technical parameters of establishing standardized electronic file formats, such as the National Instructional Materials Accessibility Standard as defined in Section 674(e)(3) of the Individuals with Disabilities Education Act, to be provided by publishers of instructional materials to producers of materials in specialized formats, institutions of higher education, and eligible students; (III) the feasibility of establishing a national clearinghouse, repository, or file-sharing network for electronic files in specialized formats and files used in producing instructional materials in specialized formats, and a list of possible entities qualified to administer such clearinghouse, repository, or network; (IV) the feasibility of establishing market-based solutions involving collaborations among publishers of instructional materials, producers of materials in specialized formats, and institutions of higher education; (V) solutions utilizing universal design; and (VI) solutions for low-incidence, high-cost requests for instructional materials in specialized formats.”

The Commission will meet in open session on Monday and Tuesday, and will review and discuss the first draft of the Commission's report to the Secretary and Congress. The Commission will also receive briefings from subject matter experts on several different topics of interest.

The purpose of the public hearing is for the Commission to receive information from its stakeholders on issues pertaining to accessible instructional materials in postsecondary education. The public hearing session will address issues related to law, technology, the market model, and low-incidence/high-cost materials. Additionally, the public hearing will focus on individual experiences related to accessible instructional materials in postsecondary education.

Detailed minutes of the meeting and hearing, will be available to the public within 14 days of the meeting. Records are kept of all Commission proceedings and are available for public inspection at the Office of Special Education and Rehabilitative Services, United States Department of Education, 550 12th Street, SW., Washington, DC 20202, Monday-Friday during the hours of 8 a.m. to 4:30 p.m.

Additional Information

Individuals who will need accommodations for a disability in order to attend the meeting (e.g., interpreting services, assistive listening devices, or material in alternative format) should notify Elizabeth Shook at (202) 245-7642, no later than June 30, 2011. We will make every attempt to meet requests for accommodations after this date, but, cannot guarantee their availability. The meeting site is accessible to individuals with disabilities. Participants who wish to comment at the public hearing are encouraged to register in advance by calling Janet Gronneberg at CAST at 781-245-2212 (voice) or 781-245-9320 (TTY) or jgronneberg@cast.org by June 30, 2011. The Commission requests that organizations with multiple participants designate no more than one individual to speak on its behalf. Participants who will be testifying in person must report to the hearing registration desk at least thirty minutes prior to their scheduled time. A period of time will be reserved for individuals who choose to not register in advance. Participation in the hearing for unregistered participants will be subject to availability. Comments should be limited to five minutes per person or organization, but participants have the option of supplementing their testimony with written statements that will be part of the official hearing record. The Commission will have technology to facilitate PowerPoint presentations as needed.

Members of the public who would like to offer comments as part of the public hearing remotely may submit written comments to AIMCommission@ed.gov or by mail to Advisory Commission on Accessible Instructional Materials in Postsecondary Education for Students with Disabilities, 550 12th St., SW., Room PCP-5113, Washington, DC 20202. All submissions will become part of the public record.

Members of the public also have the option of participating in the open meeting and public hearing remotely. Remote access will be provided via an Internet webinar service utilizing VoiP (Voice Over Internet Protocol). For the July 11th, 2011 portion of the meeting from 8:30 a.m.-5 p.m., the URL is https://aimpsc.ilinc.com/join/yvbmysr. The login will be available to the public starting at 8 a.m. (Pacific). On July 12th, the URL will be https://aimpsc.ilinc.com/join/bbmtzsh for the Commission meeting from 8:30 a.m.-3:30 p.m., and the login will be open to public at 8 a.m. (Pacific).

The URL for the public hearing portion of the meeting from 4 p.m.-9 p.m. will be https://aimpsc.ilinc.com/join/yvbmyjr. The login will open to public at 3:45 p.m. (Pacific). Login information is also provided via the Commission's public listserv at pscpublic@lists.cast.org and posted at the following site: http://www2.ed.gov/about/bdscomm/list/aim/index.html.

Electronic Access to this Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC area at 202-512-0000.

Dated: June 20, 2011.
Alexa Posny,
Assistant Secretary, Office of Special Education and Rehabilitative Services.

[FR Doc. 2011-15721 Filed 6-22-11; 8:45 am]

BILLING CODE 4000-01-P